DEPARTMENT OF HEALTH AND HUMAN SERVICES

National Committee on Vital and Health Statistics: Meeting Standards Subcommittee

Pursuant to the Federal Advisory Committee Act, the Department of Health and Human Services (HHS) announces the following advisory committee meeting.

Name: National Committee on Vital and Health Statistics (NCVHS), Subcommittee on Standards Meeting.

Time and Date:

February 16, 2016 9:00 a.m.-5:00 p.m. EST.

Place: U.S. Department of Health and Human Services, Hubert H. Humphrey Building, Room 705-A, 200 Independence Avenue SW., Washington, DC 20024, (202) 690-7100.

Status: Open.

Purpose: At this meeting the Subcommittee will gather industry input regarding (1) the proposed Phase IV Operating Rules for selected HIPAA Transactions (enrollment/disenrollment, premium payment, health care claims and prior authorization); and (2) the proposed Claim Attachment standards and code sets. These two areas of consideration will be used when making recommendations for adoption to the Secretary of HHS.

Contact Person for More Information: Substantive program information may be obtained from Rebecca Hines, Executive Secretary, NCVHS, National Center for Health Statistics, Centers for Disease Control and Prevention, 3311 Toledo Road, Hyattsville, Maryland 20782, telephone (301) 458-4715. Information pertaining to meeting content may be obtained from Terri Deutsch, Centers for Medicare and Medicaid Services, Office of E-Health Standards and Services, 7500 Security Boulevard, Baltimore, Maryland 21244, telephone (410) 786-9462. Summaries of meetings and a roster of committee members are available on the NCVHS home page of the HHS Web site: http://www.ncvhs.hhs.gov/, where further information including an agenda will be posted when available.

Should you require reasonable accommodation, please contact the CDC Office of Equal Employment Opportunity on (301) 458-4EEO (4336) as soon as possible.

Dated: January 28, 2016.
James Scanlon,
Deputy Assistant Secretary for Science and Data Policy, Office of the Assistant Secretary for Planning and Evaluation.

[FR Doc. 2016-02115 Filed 2-3-16; 8:45 am]

BILLING CODE 4151-05-P